DEPARTMENT OF ENERGY

Federal Energy Regulatory Commission

[Docket No. RP00-500-000]

Chandeleur Pipe Line Company; Notice of Proposed Changes in FERC Gas Tariff

August 24, 2000.

Take notice that on August 17, 2000, Chandeleur Pipe Line Company tendered for filing as part of its FERC Gas Tariff, Second Revised Volume No. 1, the following tariff sheets, to become effective October 1, 2000.

Second Revised Sheet No. 3

First Revised Sheet No. 3A

First Revised Sheet No. 6

First Revised Sheet No. 13

Fourth Revised Sheet No. 19A

Third Revised Sheet No. 19B

First Revised Sheet No. 19C

Second Revised Sheet No. 31

Original Sheet No. 31A

Second Revised Sheet No. 32

Second Revised Sheet No. 33

Second Revised Sheet No. 34

Third Revised Sheet No. 70

Original Sheet No. 71

Original Sheet No. 72

Original Sheet No. 73

Original Sheet No. 74

First Revised Sheet No. 90

First Revised Sheet No. 94

First Revised Sheet No. 98

Chandeleur Pipe Line Company states that the purpose of this filing is to give Chandeleur Pipe Line Company the ability to negotiate rates as provided for by the Commission in its Policy Statement (RM95-6-000, et al.)

Any person desiring to be heard or to protest said filing should file a motion to intervene or a protest with the Federal Energy Regulatory Commission, 888 First Street, NE., Washington, DC 20426, in accordance with sections 385214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-22102 Filed 8-29-00; 8:45 am]

BILLING CODE 6717-01-M